DEPARTMENT OF ENERGY

Federal Energy Regulatory Commission

Combined Notice of Filings #1

Take notice that the Commission received the following electric corporate filings:

Docket Numbers: EC19-12-000.

Applicants: Meadowlark Wind I LLC.

Description: Application for Authorization Under Section 203 of the Federal Power Act, et al. of Meadowlark Wind I LLC.

Filed Date: 10/16/18.

Accession Number: 20181016-5103.

Comments Due: 5 p.m. ET 11/6/18.

Take notice that the Commission received the following electric rate filings:

Docket Numbers: ER11-4338-004.

Applicants: New York Independent System Operator, Inc.

Description: Compliance filing: Compliance to set effective date—Order No. 745 Demand Response to be effective 10/31/2018.

Filed Date: 10/16/18.

Accession Number: 20181016-5091.

Comments Due: 5 p.m. ET 11/6/18.

Docket Numbers: ER18-2312-000.

Applicants: Enel Green Power Diamond Vista Wind Project, LLC.

Description: Supplement to August 31, 2018 Supplement to Enel Green Power Diamond Vista Wind Project, LLC tariff filing. Also on October 12, 2018 filed a supplement to the October 11, 2018 filing.

Filed Date: 10/11/18; 10/12/18.

Accession Number: 20181011-5200; 20181012-5213.

Comments Due: 5 p.m. ET 10/26/18.

Docket Numbers: ER18-2330-000.

Applicants: Enel Green Power Rattlesnake Creek Wind Project, LLC.

Description: Supplement to August 28, 2018 Enel Green Power Rattlesnake Creek Wind Project, LLC tariff filing.

Filed Date: 10/12/18.

Accession Number: 20181012-5216.

Comments Due: 5 p.m. ET 10/26/18.

Docket Numbers: ER18-2361-000.

Applicants: Enel Green Power Hilltopper Wind, LLC.

Description: Supplement to August 30, 2018 Enel Green Power Hilltopper Wind, LLC tariff filing.

Filed Date: 10/12/18.

Accession Number: 20181012-5218.

Comments Due: 5 p.m. ET 10/26/18.

Docket Numbers: ER19-66-000.

Applicants: Conemaugh Power Pass-Through Holders LLC.

Description: Amendment to October 9, 2018 Conemaugh Power Pass-Through Holders LLC tariff filing.

Filed Date: 10/15/18.

Accession Number: 20181015-5159.

Comments Due: 5 p.m. ET 10/29/18.

Docket Numbers: ER19-70-000.

Applicants: Keystone Power Pass-Through Holders LLC.

Description: Amendment to October 9, 2018 Keystone Power Pass-Through Holders LLC tariff filing.

Filed Date: 10/15/18.

Accession Number: 20181015-5161.

Comments Due: 5 p.m. ET 10/29/18.

Docket Numbers: ER19-111-000.

Applicants: Pacific Gas and Electric Company.

Description: § 205(d) Rate Filing: Balancing Accounts Update 2019 (TRBAA, RSBAA, ECRBAA) to be effective 1/1/2019.

Filed Date: 10/15/18.

Accession Number: 20181015-5115.

Comments Due: 5 p.m. ET 11/5/18.

Docket Numbers: ER19-112-000.

Applicants: Midcontinent Independent System Operator, Inc.

Description: § 205(d) Rate Filing: 2018-10-16_SA 2395 MidAmerican-ITC Midwest 4th Rev GIA (H021 J041) to be effective 9/28/2018.

Filed Date: 10/16/18.

Accession Number: 20181016-5035.

Comments Due: 5 p.m. ET 11/6/18.

Docket Numbers: ER19-113-000.

Applicants: ISO New England Inc.

Description: ISO New England Inc. submits Third Quarter 2018 Capital Budget Report.

Filed Date: 10/15/18.

Accession Number: 20181015-5158.

Comments Due: 5 p.m. ET 11/5/18.

Docket Numbers: ER19-114-000.

Applicants: Midcontinent Independent System Operator, Inc., ALLETE, Inc.

Description: § 205(d) Rate Filing: 2018-10-16_SA 3183 MP-GRE T-L IA (Bellevue) to be effective 10/17/2018.

Filed Date: 10/16/18.

Accession Number: 20181016-5094.

Comments Due: 5 p.m. ET 11/6/18.

Docket Numbers: ER19-115-000.

Applicants: FL Solar 5, LLC.

Description: Baseline eTariff Filing: FL Solar 5, LLC MBR Application to be effective 11/15/2018.

Filed Date: 10/16/18.

Accession Number: 20181016-5107.

Comments Due: 5 p.m. ET 11/6/18.

Docket Numbers: ER19-116-000.

Applicants: Midcontinent Independent System Operator, Inc., ALLETE, Inc.

Description: § 205(d) Rate Filing: 2018-10-16_SA 3187 MP-GRE T-L IA (St. Stephens) to be effective 10/17/2018.

Filed Date: 10/16/18.

Accession Number: 20181016-5123.

Comments Due: 5 p.m. ET 11/6/18.

Docket Numbers: ER19-117-000.

Applicants: Innovative Solar 54, LLC.

Description: Baseline eTariff Filing: Baseline new to be effective 12/9/2018.

Filed Date: 10/16/18.

Accession Number: 20181016-5132.

Comments Due: 5 p.m. ET 11/6/18.

Docket Numbers: ER19-118-000.

Applicants: Innovative Solar 67, LLC.

Description: Baseline eTariff Filing: Baseline new to be effective 12/6/2018.

Filed Date: 10/16/18.

Accession Number: 20181016-5134.

Comments Due: 5 p.m. ET 11/6/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 16, 2018.
Nathaniel J. Davis, Sr.,
Deputy Secretary.

[FR Doc. 2018-22945 Filed 10-19-18; 8:45 am]

BILLING CODE 6717-01-P